DEPARTMENT OF COMMERCE

National Oceanic and Atmospheric Administration

50 CFR Part 648

[Docket No. 150126074-5074-01]

RIN 0648-XD742

Fisheries of the Northeastern United States; Atlantic Bluefish Fishery; 2015 Atlantic Bluefish Specifications

AGENCY: National Marine Fisheries Service (NMFS), National Oceanic and Atmospheric Administration (NOAA), Commerce.

ACTION: Proposed specifications; request for comments.

SUMMARY: NMFS proposes specifications for the 2015 Atlantic bluefish fishery, including catch restrictions for commercial and recreational fisheries. This action is necessary to establish effective catch constraints for the fishing year consistent with regulatory and statutory requirements. The intent of this action is to establish the allowable 2015 harvest levels and other management measures to achieve the target fishing mortality rate, consistent with the Atlantic Bluefish Fishery Management Plan.

DATES: Comments must be received on or before May 12, 2015.

ADDRESSES: You may submit comments, identified by NOAA-NMFS-2015-0048, by any one of the following methods:

• Electronic Submissions: Submit all electronic public comments via the Federal e-Rulemaking portal. Go to www.regulations.gov/#!docketDetail;D=NOAA-NMFS-2015-0048, click the “Comment Now!” icon, complete the required fields, and enter or attach your comments.

• Mail: Submit written comments to John Bullard, Regional Administrator, NMFS, Greater Atlantic Regional Fisheries Office, 55 Great Republic Drive, Gloucester, MA 01930.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publically accessible. NMFS will accept anonymous comments (enter “N/A” in the required fields if you wish to remain anonymous).

Copies of the specifications document, including the Environmental Assessment and Initial Regulatory Flexibility Analysis (EA/IRFA) and other supporting documents for the specifications, are available from Dr. Christopher M. Moore, Executive Director, Mid-Atlantic Fishery Management Council, Suite 201, 800 N. State Street, Dover, DE 19901. The specifications document is also accessible via the Internet at: http://www.greateratlantic.fisheries.noaa.gov.

FOR FURTHER INFORMATION CONTACT: Reid Lichwell, Fishery Management Specialist, (978) 281-9112.

SUPPLEMENTARY INFORMATION:

Background

The Atlantic bluefish fishery is jointly managed by the Mid-Atlantic Fishery Management Council (Council) and the Atlantic States Marine Fisheries Commission (Commission). The management unit for bluefish specified in the Atlantic Bluefish Fishery Management Plan (FMP) is U.S. waters of the western Atlantic Ocean. Regulations implementing the FMP appear at 50 CFR part 648, subparts A and J. The regulations requiring annual specifications are found at § 648.162.

The annual specifications process requires that the Council's Bluefish Monitoring Committee and its Scientific and Statistical Committee (SSC) review the best available scientific information and make specification recommendations to the Council. These groups have reviewed the 2014 updated bluefish stock assessment, which is summarized in the Environmental Assessment and supporting documents. Based on the recommendations of the Monitoring Committee and SSC, the Council makes its specification recommendations to the NMFS Greater Atlantic Regional Administrator. Because this FMP is a joint plan, the Commission also meets during the annual specification process to adopt complementary measures.

The Council's recommendations must include supporting documentation concerning the environmental, economic, and social impacts of the recommendations. NMFS is responsible for reviewing these recommendations to ensure that they achieve the FMP objectives and are consistent with applicable law. NMFS then conducts rulemaking through the Federal Register to propose measures, solicit public comment and publish final measures.

Proposed Specifications

Updated Model Estimates

Overfishing for bluefish is defined as fishing mortality that exceeds the fishing mortality rate that allows maximum sustainable yield (FMSY), or when the maximum F threshold is exceeded. The stock is considered overfished if the biomass (B) falls below the minimum biomass threshold, defined as ½ BMSY. Amendment 1 to the FMP established that the long-term target F is 90 percent of FMSY (FMSY = 0.19; therefore Ftarget = 90 percent of FMSY, or 0.17), and the long-term target biomass is BMSY = 324 million lb (147,052 mt).

The stock assessment model was updated in July 2014 in order to estimate the current status of the bluefish stock (i.e., 2013 biomass and F estimates). This update was used by the Monitoring Committee and the SSC to recommend 2015 specifications. The results of the assessment update were as follows: (1) An estimated stock biomass for 2013, B2013 = 273 million lb (123,716 mt); and (2) an estimated fishing mortality rate for 2013, F2013 = 0.118. Based on the updated 2013 estimate of bluefish stock biomass, the bluefish stock is not considered overfished: B2013 is less than BMSY, but well above the minimum biomass threshold of 162 million lb (73,526 mt). The updated model results also conclude that the Atlantic bluefish stock is not experiencing overfishing; i.e., the most recent F (F2013 = 0.118) is less than the maximum F overfishing threshold (FMSY = 0.19). Bluefish was declared rebuilt in 2009.

Proposed 2015 Catch Limits

Based upon the results of the assessment update and the Council's risk policy, the SSC recommended an acceptable biological catch (ABC) of 21.544 million lb (9,772 mt) for 2015. The Council recommended no deductions to account for management uncertainty; therefore, ABC=ACL=ACT. The ACT is initially allocated between the recreational fishery (83 percent) and the commercial fishery (17 percent). After deducting an estimate of recreational discards (commercial discards are considered negligible), the recreational harvest limit (RHL) would be 13.073 million lb (5,930 mt) and the commercial quota would be 5.119 million lb (2,322 mt).

The FMP specifies that if 17 percent of the TAL is less than 10.500 million lb (4,763 mt), and the recreational fishery is not projected to land its harvest limit for the upcoming year, the commercial fishery may be allocated up to 10.500 million lb (4,763 mt) as its quota, provided that the combination of the projected recreational landings and the commercial quota does not exceed the TAL. Under such a scenario, the RHL would then be adjusted so that the TAL remains unchanged.

The Council projected an estimated 2015 annual recreational harvest of 13.073 million lb (5,930 mt). As such, it is expected that a transfer of up to 1.460 million lb (662 mt) from the recreational sector to the commercial sector could be approved. This option represents the preferred alternative recommended by the Council. We intend to evaluate final Marine Recreational Information Program data regarding the 2014 recreational harvest as they become available. The 2015 transfer amount may be changed for the final rule depending on our analysis of the final 2014 recreational landings data. If such a change occurs, we will provide additional data and explanation in the final rule.

The Council is not recommending allocating research set-aside quota for 2015; therefore, no additional adjustments to commercial or recreational allocations are needed. The final proposed commercial quota for 2015 is 5.119 million lb (2,322 mt), which would be a 31-percent decrease from 2014 (7.458 million lb, 3,383 mt), and the proposed RHL is 13.073 million lb (5,930 mt), which would be a 3-percent decrease from the 2014 RHL (13.52 million lb, 6,133 mt).

Proposed Recreational Possession Limit

NMFS proposes not to change the current recreational possession limit, consistent with the recommendation by the Council. This would maintain a daily recreational possession limit of up to 15 fish per person for 2015.

Proposed State Commercial Allocations

The proposed state commercial allocations for the recommended 2015 commercial quota are shown in Table 1, based on the percentages specified in the FMP. There were no states that exceeded their quota in 2014; therefore, no accountability measures are expected to be implemented for the 2015 fishing year.

Table 1—Proposed Bluefish Commercial State-by-State Allocations for 2015
State | Percent share | 2015 Proposed commercial quota (lb) | 2015 Proposed commercial quota (kg)
ME | 0.6685 | 34,221 | 15,522
NH | 0.4145 | 21,218 | 9,624
MA | 6.7167 | 343,828 | 155,958
RI | 6.8081 | 348,507 | 158,080
CT | 1.2663 | 64,822 | 29,402
NY | 10.3851 | 531,613 | 241,136
NJ | 14.8162 | 758,441 | 344,023
DE | 1.8782 | 96,145 | 43,611
MD | 3.0018 | 153,662 | 69,700
VA | 11.8795 | 608,112 | 275,835
NC | 32.0608 | 1,641,192 | 744,432
SC | 0.0352 | 1,802 | 817
GA | 0.0095 | 486 | 220
FL | 10.0597 | 514,956 | 233,580
Total | 100.0001 | 5,119,134 | 2,322,000

Classification

Pursuant to section 304(b)(1)(A) of the Magnuson-Stevens Fishery Conservation and Management Act, the NMFS Assistant Administrator has determined that this proposed rule is consistent with the Atlantic Bluefish FMP, other provisions of the Magnuson-Stevens Act, and other applicable law, subject to further consideration after public comment.

These proposed specifications are exempt from review under Executive Order 12866.

An IRFA was prepared, as required by section 603 of the Regulatory Flexibility Act (RFA), which describes the economic impact this proposed rule, if adopted, would have on small entities. The IRFA is summarized here.

Description of the Reasons Why Action by the Agency Is Being Considered

A description of the action and why it is being considered are contained at the beginning of this preamble and in the SUMMARY.

Statement of the Objective of, and Legal Basis for, This Proposed Rule

The statement of the objective and the legal basis for this action are contained at the beginning of this preamble and in the SUMMARY.

Description and Estimate of the Number of Small Entities to Which This Proposed Rule Would Apply

The Small Business Administration (SBA) defines a small business in the commercial harvesting sector as a firm with receipts (gross revenues) of up to $5.5 million for shellfish and $20.5 million for finfish businesses. A small business in the recreational fishery is a firm with receipts of up to $7.5 million.

According to the 2011-2013 Northeast affiliate ownership database, 1,009 fishing businesses or affiliated firms (vessels grouped together by a common owner) landed bluefish during the 2011-2013 period, with 1,001 of those businesses categorized as small business and 8 categorized as large business. However, the affiliate database used to identify small/large business firms that have recently participated in the bluefish fishery does not contain detailed ownership data for business entities in the South Atlantic Region. As such, the South Atlantic Trip Ticket reports were used to identify vessels participating in the bluefish fishery within the region. The South Atlantic Trip Ticket reports identified 790 vessels that landed bluefish in North Carolina and 1,338 vessels that landed bluefish on Florida's east coast in 2013.¹ Bluefish landings in South Carolina and Georgia were near zero in 2013, representing a negligible proportion of the total bluefish landings along the Atlantic Coast. Therefore, this analysis assumed that no vessel activity for these two states took place in 2013. In recent years, approximately 2,000 party/charter vessels have been active in the bluefish fishery and/or have caught bluefish.

¹ Some of these vessels were also identified in the Northeast dealer data; therefore, double counting is possible.

Description of the Projected Reporting, Record-Keeping, and Other Compliance Requirements of This Proposed Rule

There is no new reporting or recordkeeping requirements contained in any of the alternatives considered for this action.

Federal Rule Which May Duplicate, Overlap, or Conflict With This Proposed Rule

NMFS is not aware of any relevant Federal rules that may duplicate, overlap, or conflict with this proposed rule.

Description of Significant Alternatives to the Proposed Action Which Accomplish the Stated Objectives of Applicable Statues and Which Minimize Any Significant Economic Impact on Small Entities

The small entities that could be affected by this action include any business entity holding an active Federal permit for Atlantic bluefish, as well as owners of vessels that fish for Atlantic bluefish in state waters. There were 1,009 Northeast fishing businesses that landed bluefish from 2011-2013, 1,001 are considered small business entities; there would be no disproportionate impacts between large and small entities as a result of the proposed rule. There are 765 vessels in North Carolina that landed bluefish quota from 2011-2013; on average those vessels generated 10.8% of their ex-vessel revenue from bluefish landings. There are 1,227 vessels in on the east coast of Florida that landed bluefish quota from 2011-2013; on average those vessels generated 0.83% of their ex-vessel revenue from bluefish landings.

The IRFA in the Draft EA for this action addressed two alternatives (including a no action/status quo alternative) for the 2015 Atlantic bluefish fishing year. Both quota alternatives considered in this analysis are based on various commercial harvest levels for bluefish. For analysis of impacts of the No Action Alternative, the current commercial quota of 7.458 million lb (3,383 mt) and RHL of 13.523 million lb (6,134 mt) for 2014 would be maintained. For analysis of impacts of the Preferred Action Alternative, the transfer of 1.457 million lb (661 mt) from the recreational sector to the commercial sector was used. The calculated TAL, commercial quota and the RHL for the Preferred Alternative (Council's preferred) and the No Action Alternative are shown in Table 2.

Table 2—Proposed 2015 Atlantic Bluefish Specification Alternatives for TAL, Commercial Quota, and RHL
Year | Alternatives | TAL: million lb | TAL: mt | Commercial quota: million lb | Commercial quota: mt | RHL: million lb | RHL: mt
2015 | Preferred Action | 18.192 | 8,252 | 5.119 | 2,322 | 13.073 | 5,930
2015 | No Action | 21.081 | 9,888 | 7.458 | 3,383 | 13.523 | 6,134

Commercial Fishery Impacts

To assess the impact of the alternatives on commercial fisheries, the Council conducted a threshold analysis and analysis of potential changes in ex-vessel gross revenue that would result from each alternative, using Northeast dealer reports and South Atlantic Trip Ticket reports.

Under the No Action Alternative, the 2015 specifications would have no aggregate change in allowable commercial landings or RHL relative to the 2014 limits. As such, it is expected that no change in revenues or fishing opportunities would occur. The No Action Alternative would likely result in quota constraints for vessels in New York and Massachusetts; however, these quota constraints would not have an economic impact due to the ability to transfer quota from state to state.

Under the Preferred Alternative, 57 business entities were projected to incur revenue losses of 5 percent or more, 944 entities were projected to incur losses of less than 5 percent in 2015. Under Alternative 2 (non-preferred), 87 business entities were projected to incur revenue losses of 5 percent or more, 914 entities were projected to incur losses of less than 5 percent in 2015. For both alternatives, the majority of vessels with greater than 5 percent of revenue losses had total gross sales of $10,000 or less (average for all possible species combined not just bluefish in 2011-2013), which may indicate that the dependence on fishing for some of these vessels is small.

The South Atlantic Trip Ticket Report data indicated that 765 vessels landed commercial bluefish quota in North Carolina from 2011-2013. On average, these vessels generated 10.8% of their total ex-vessel revenue from bluefish landings. The commercial landings are projected to decrease as a consequence of the 2015 allocation when compared to the 2014 allocation by approximately 31.4% under the Preferred Alternative and 50.9% under Alternative 2. On average, reduction in revenues due to the potential decrease in landings associated with the 2015 quota compared to the 2014 quota are expected to be approximately 3.4% for the Preferred Alternative and 5.5% for Alternative 2, for fishermen that land bluefish in North Carolina.

In Florida, 1,227 vessels landed bluefish from 2011-2013, and 0.83% of their total ex-vessel revenue was generated from bluefish landings. On average, reduction in revenues due to the potential decrease in landings associated with the 2015 quota compared to the 2014 quota are expected to be approximately 0.3% for the Preferred Alternative and 0.4% for Alternative 2, for fishermen that land bluefish in Florida.

If commercial quota is transferred from a state or states that do not land their entire bluefish quota for 2015, as was done in frequently in previous years, the number of affected entities could change. Transfers could lessen the adverse economic impact on vessels landing in the state(s) receiving quota transfers for both alternatives. Such transfers cannot be predicted or projected, as each occurs on a case by case agreement between states.

Recreational Fishery Impacts

It is very difficult to calculate the economic value of recreational fisheries. However, the Preferred Action Alternative RHL (13.073 million lb, 5,930 mt) is approximately 15 percent below the recreational landings for 2013 (15.388 million lb, 6,980 mt). Under the No Action Alternative, the recommended RHL for the recreational sector (13.523 million lb, 6,134 mt) is approximately 13 percent below the recreational landings for 2013 (15.388 million lb, 6,980 mt), and the RHL for Alternative 2 (14.530 million lb, 6, 591 mt) is approximately 5.5 percent below the recreational landings for 2013.

While the proposed recreational harvest limit under the Preferred Alternative for 2015 is lower than the limit implemented in 2014 (13.523 million lb) and 2013 recreational landings (15.388 million lb), the projected landings for 2015 are expected to be similar to the proposed limit under this alternative. Therefore, it is anticipated that the proposed RHL will not limit recreational catch or negatively impact recreational fishing revenue. It is not anticipated that this management measure will have any negative effects on recreational fishermen or affect the demand for party/charter boat trips. This alternative is not expected to significantly affect angler satisfaction nor expected to result in landings in excess of the recreational harvest limit. Overall, it is not expected that the final recreational management measures will significantly affect gross revenues of businesses providing goods and services to anglers participating in the party/charter boat, private/rental boat, and shore fisheries for bluefish.

Authority: 16 U.S.C. 1801 et seq.

Dated: April 17, 2015.
Eileen Sobeck,
Assistant Administrator for Fisheries, National Marine Fisheries Service.

[FR Doc. 2015-09684 Filed 4-24-15; 8:45 am]

BILLING CODE 3510-22-P